DEPARTMENT OF THE INTERIOR

Minerals Management Service

Preparation of an Environmental Assessment for Proposed Lease Sale 184 in the Western Gulf of Mexico (2002)

AGENCY: Minerals Management Service, Interior.

ACTION: Preparation of an environmental assessment.

SUMMARY: The Minerals Management Service (MMS) is using the final environmental impact statement (EIS) for proposed lease sales in the Western Planning Area (WPA) of the Gulf of Mexico OCS (OCS EIS/EA, MMS 98-0008, May 1998) to support decisions for proposed WPA Lease Sale 184 (scheduled for August 2002). This would be the first lease sale under the draft proposed Outer Continental Shelf Oil and Gas Leasing Program: 2002-2007. The MMS will prepare an environmental assessment (EA) to determine if there could be new significant impacts not fully analyzed in the May 1998 Final EIS. The information on issues and alternatives received in response to the Call for Information and Notice of Intent to Prepare an EIS for the draft proposed Outer Continental Shelf Oil and Gas Leasing Program: 2002-2007 will also be considered in the EA analysis. Preparation of the EA is the first step in the prelease decision process for Sale 184. The analysis in the EA will reexamine the projected activities and potential environmental effects of the proposal and alternatives in consideration of any new information regarding potential impacts and issues that was not available at the time the 1998 Final WPA multisale EIS was prepared.

FOR FURTHER INFORMATION CONTACT: Minerals Management Service, Gulf of Mexico OCS Region, 1201 Elmwood Park Boulevard, New Orleans, Louisiana 70123-2394, Mr. Alvin Jones, telephone (504) 736-1713.

SUPPLEMENTARY INFORMATION: The proposed action analyzed in the multisale EIS was the offering of all available unleased acreage in the Western Gulf of Mexico Planning Area, with the following exceptions: Blocks A-375 (East Flower Garden Bank) and A-398 (West Flower Garden Bank) in the High Island Area, East Addition, South Extension, designated as a national marine sanctuary; and Blocks 793, 799, and 816 in the Mustang Island Area, identified by the Navy as needed for testing equipment and for training mine warfare personnel. The proposal to be addressed in this EA has been revised to the following extent: four additional blocks or portions of these blocks (High Island Area, East Addition, South Extension, Block A-401; High Island, South Addition, Block A-513; and Garden Banks Blocks 134 and 135), which lie partially within the Flower Garden National Marine Sanctuary, are deferred from the proposed action in light of the President's June 1998 withdrawal of all Marine Sanctuaries from oil and gas leasing. The proposed action includes existing regulations and proposed lease stipulations designed to reduce environmental risks. The EA will also analyze alternatives to exclude blocks near biologically sensitive topographic features, as well as the no action alternative.

After completion of the EA, MMS will determine whether to prepare a Finding of No New Significant Impact (FONNSI) or a supplemental EIS. The MMS will then prepare and send consistency determinations to the affected States to determine whether the proposed sale is consistent with Federally-approved State coastal zone management programs, and then will send a proposed Notice of Sale to the governors for their comments on the size, timing, and location of the proposed sale. The tentative schedule for the steps in the prelease decision process for Sale 184 are listed below: Comments due to MMS, January 19, 2002; EA/FONNSI or Supplemental EIS, March 2002; Proposed Notice of Sale sent to Governors, March 2002; Consistency Determinations sent to States, March 2002; Final Notice of Sale in Federal Register, July 2002; Sale, August 2002.

Public Comments

The MMS requests interested parties to submit comments regarding any new information or issues that should be addressed in the EA to Minerals Management Service, Gulf of Mexico OCS Region, Office of Leasing and Environment, Attention: Regional Supervisor (MS 5410), 1201 Elmwood Park Boulevard, New Orleans, Louisiana 70123-2394 by January 19, 2002. Comments should be enclosed in an envelope labeled “Comments on the Lease Sale 184 EA.”

Dated: November 14, 2001.
Chris C. Oynes,
Regional Director, Gulf of Mexico OCS Region.

[FR Doc. 01-29796 Filed 11-29-01; 8:45 am]

BILLING CODE 4310-MR-P